DEPARTMENT OF THE INTERIOR

Fish and Wildlife Service

[FWS-R4-ES-2018-N072; FXES11140400000-189-FF04E00000]

Endangered Species; Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given in ADDRESSES by July 6, 2018.

ADDRESSES:

Reviewing Documents: Documents and other information submitted with the applications are available for review, subject to the requirements of the Privacy Act and Freedom of Information Act. Submit a request for a copy of such documents to Karen Marlowe, 404-679-7097 (telephone) or 404-679-7081 (fax); karen_marlowe@fws.gov.

Submitting Comments: If you wish to comment, you may submit comments by any one of the following methods:

• U.S. mail or hand-delivery: U.S. Fish and Wildlife Service Regional Office, Ecological Services, 1875 Century Boulevard, Atlanta, GA 30345 (Attn: Karen Marlowe, Permit Coordinator).

• Email: permitsR4ES@fws.gov. Please include your name and return address in your email message. If you do not receive a confirmation from the U.S. Fish and Wildlife Service that we have received your email message, contact us directly at the telephone number listed in FOR FURTHER INFORMATION CONTACT.

FOR FURTHER INFORMATION CONTACT: Karen Marlowe, Permit Coordinator, 404-679-7097 (telephone) or 404-679-7081 (fax).

SUPPLEMENTARY INFORMATION: We invite review and comment from local, State, and Federal agencies and the public on applications we have received for permits to conduct certain activities with endangered and threatened species under section 10(a)(1)(A) of the Endangered Species Act of 1973, as amended (ESA; 16 U.S.C. 1531 et seq.), and our regulations in the Code of Federal Regulations (CFR) at 50 CFR part 17. With some exceptions, the ESA prohibits activities that constitute take of listed species unless a Federal permit is issued that allows such activities. The ESA's definition of “take” includes hunting, shooting, harming, wounding, or killing and also such activities as pursuing, harassing, trapping, capturing, or collecting.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Before including your address, phone number, email address, or other personal identifying information in your comment, you should be aware that your entire comment—including your personal identifying information—may be made publicly available at any time. While you can ask us in your comment to withhold your personal identifying information from public review, we cannot guarantee that we will be able to do so.

Permit application No. | Applicant | Species/numbers | Location | Activity | Type of take | Permit action
TE 065972-2 | U.S. Forest Service, Russellville, AR | Gray bat (Myotis grisescens), Indiana bat (M. sodalis), northern long-eared bat (M. septentrionalis), Ozark big-eared bat (Corynorhinus (=Plecotus) townsendii ingens), and American burying beetle (Nicrophorus americanus) | Ozark-St. Francis National Forest lands, Arkansas | Presence/absence surveys | Bats: Enter hibernacula and maternity roost caves, capture with mist nets, handle, identify, and release. American burying beetle: live-trap and release | Renewal and Amendment.
TE 171493-2 | Memphis Zoo, Memphis, TN | Dusky gopher frog (Rana sevosa) | In captivity at Memphis Zoo, Memphis, TN; Toronto Zoo, Ontario, Canada; and, Omaha's Henry Doorly Zoo, Omaha, NE. In the wild in Harrison County, Mississippi | Genetic diversity study of captive frogs and post-release survival and movement of captive-bred frogs | Collect toe clips from captive-bred frogs; attach radio-transmitters to monitor post-release survival and movements of captive-bred metamorphs | Renewal and Amendment.
TE 237535-3 | Bok Tower Gardens, Lake Wales, FL | Dicerandra christmanii (Garrett's mint), Warea carteri (Carter's mustard), and Lupinus aridorum (Scrub lupine) | Lake Wales National Wildlife Refuge, Florida | Ex situ seed banking, artificial propagation, seed germination and storage research, and population augmentation | Remove and reduce to possession (collect) seeds and leaves | Renewal.
TE 53149B-2 | Hans Otto, Tucson, AZ | Gray bat (Myotis grisescens), Indiana bat (M. sodalis), Northern long-eared bat (M. septentrionalis), Ozark big-eared bat (Corynorhinus townsendii ingens), Virginia big-eared bat (C. t. virginianus), Lesser long-nosed bat (Leptonycteris curasoae yerbabuenae), and New Mexico meadow jumping mouse (Zapus hudsonius luteus) | Alabama, Arizona, Arkansas, Connecticut, Delaware, Florida, Georgia, Illinois, Indiana, Iowa, Kansas, Kentucky, Maryland, Massachusetts, Michigan, Minnesota, Mississippi, Missouri, Nebraska, New Hampshire, New Jersey, New Mexico, New York, North Carolina, North Dakota, Ohio, Oklahoma, Pennsylvania, Rhode Island, South Carolina, South Dakota, Tennessee, Texas, Vermont, Virginia, West Virginia, Wisconsin, and Wyoming | Presence/absence surveys and scientific research | Lesser long-nosed bat: mist-net, harp trap, hand-net, band, radio-tag, light tag, collect hair samples, collect oral swabs, and wing punch. Other bats: enter hibernacula or maternity roost caves, salvage dead bats, capture with mist nets or harp traps, handle, identify, collect hair samples, band, radio tag, light tag, collect fecal material, apply fungal lift tape, swab, and wing punch. New Mexico jumping mouse: live-trap, handle, and release | Renewal.
TE 41910B-2 | Scott Rush, Mississippi State University, Starkville, MS | Gray bat (Myotis grisescens), Indiana bat (M. sodalis), Northern long-eared bat (M. septentrionalis), and Gopher tortoise (Gopherus polyphemus) | Alabama, Louisiana, Mississippi, and Tennessee | Presence/absence surveys and scientific research | Bats: Capture with mist nets or harp traps, handle, identify, and collect hair samples. Gopher tortoise: scope burrows, capture, handle, mark, attach transmitters, and attach GPS loggers | Renewal and Amendment.
TE 75551C-0 | Phillip Arant, Lexington, KY | Gray bat (Myotis grisescens), Indiana bat (M. sodalis), and Northern long-eared bat (M. septentrionalis) | Alabama, Arkansas, Connecticut, Delaware, District of Columbia, Florida, Georgia, Illinois, Indiana, Iowa, Kansas, Kentucky, Maryland, Massachusetts, Michigan, Minnesota, Mississippi, Missouri, Nebraska, New Hampshire, New Jersey, New York, North Carolina, North Dakota, Ohio, Oklahoma, Pennsylvania, Rhode Island, South Carolina, South Dakota, Tennessee, Texas, Vermont, Virginia, West Virginia, Wisconsin, and Wyoming | Presence/absence surveys | Capture with mist-nets or harp traps, handle, identify, band, and radio-tag | New.
TE 54578B-2 | Mary Frazer, Raleigh, NC | Gray bat (Myotis grisescens), Indiana bat (M. sodalis), Northern long-eared bat (M. septentrionalis), and Virginia big-eared bat (Corynorhinus townsendii virginianus) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York. North Carolina, North Dakota, Ohio, Oklahoma, Pennsylvania, Rhode Island, South Carolina, South Dakota, Tennessee, Vermont, Virginia, West Virginia, Wisconsin, and Wyoming | Presence/absence surveys, studies to document habitat use, population monitoring, and to evaluate potential impacts of white-nose syndrome or other threats | Enter hibernacula or maternity roost caves, salvage dead bats, capture with mist nets or harp traps, handle, identify, collect hair samples, band, radio tag, light-tag, and wing-punch | Renewal.
TE 63633A-5 | Biodiversity Research Institute, Portland, ME | Gray bat (Myotis grisescens), Indiana bat (M. sodalis), and Northern long-eared bat (M. septentrionalis) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/absence surveys, studies to document habitat use, population monitoring, and to evaluate potential impacts of white-nose syndrome or other threats | Enter hibernacula or maternity roost caves, salvage dead bats, capture with mist nets or harp traps, handle, identify, collect hair samples, band, radio tag, and wing-punch | Renewal.
TE 75560C-0 | Jeffrey Hawkins, Richmond, KY | Gray bat (Myotis grisescens), Indiana bat (M. sodalis), Northern long-eared bat (M. septentrionalis), Ozark big-eared bat (Corynorhinus townsendii ingens), Virginia big-eared bat (C. t. virginianus), blackside dace (Phoxinus cumberlandensis), and 36 species of freshwater mussels | Alabama, Arkansas, Connecticut, Delaware, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Texas, Vermont, Virginia, West Virginia, Wisconsin, and Wyoming | Presence/absence surveys, studies to document habitat use, population monitoring, and to evaluate potential impacts of white-nose syndrome or other threats | Bats: Enter hibernacula or maternity roost caves, salvage dead bats, capture with mist nets or harp traps, handle, identify, collect hair samples, band, radio tag, light-tag, swab, and wing-punch. Fish and Mussels: Capture, identify, and release | New.
TE 76455C-0 | North Carolina State University, Raleigh, NC | Bartram's hairstreak butterfly (Strymon acis bartrami), Florida leafwing butterfly (Anaea troglodyta floridalis), Miami blue butterfly (Cyclargus (=Hemiargus) thomasi bethunebakeri), and Schaus swallowtail butterfly (Heraclides aristodemus ponceanus) | Florida | Scientific research on survival rates of various life stages | Locate eggs, monitor and measure caterpillars, enclose host plants, release emerging butterflies, and salvage of parasitized eggs and larvae | New.
TE 77197C-0 | U.S. Army Corps of Engineers, Little Rock, AR | American burying beetle (Nicrophorus americanus) | Logan County, Arkansas | Presence/absence surveys and population monitoring | Live-trap and release | New.
TE 77472C-0 | Stream Techs, LLC, Athens, GA | Amber darter (Percina antesella), Etowah darter (Etheostoma etowahae), Gulf moccasinshell (Medionidus penicillatus), Oval pigtoe (Pleurobema pyriforme), and Shinyrayed pocketbook (Lampsilis subangulata) | Georgia | Presence/absence surveys | Capture, handle, identify, and release | New.
TE 88797B-1 | Amber Nolder, Luthersburg, PA | Gray bat (Myotis grisescens) | Alabama, Arkansas, Florida, Georgia, Illinois, Indiana, Kansas, Kentucky, Mississippi, Missouri, North Carolina, Oklahoma, Tennessee, Virginia, and West Virginia | Presence/absence surveys and studies to document habitat use | Capture with mist nets and harp traps, handle, identify, band, mark with non-toxic paint, and radio-tag | Amendment.
TE 824723-10 | Reed Bowman, Archbold Biological Station, Venus, FL | Florida grasshopper sparrow (Ammodramus savannarum floridanus) | Florida | Predator control, nest monitoring, disease screening, emergency actions associated with severe weather, and captive propagation | Fire ant control around nest sites, installation of predator exclusion fences on nests, installation of nest cameras, collection of blood samples, raising nests to reduce mortality associated with flooding, cross-fostering of eggs and nestlings, and collection of eggs, nestlings, juveniles, and adults | Amendment.
TE 78383C-0 | Joel Casto, Crawfordville, FL | Red-cockaded woodpecker (Picoides borealis) | Apalachicola National Forest Florida | Population monitoring, population management, and translocation | Capture, band, translocate, monitor nest cavities, install and monitor artificial nest cavities, and install restrictors | New.
TE 32397A-3 | James Godwin, Auburn University, Auburn, AL | Black Warrior waterdog (Necturus alabamensis) | Alabama | Presence/absence surveys, genetic analyses, population analysis | Capture, handle, identify, and collect tissue sample (tail tip) | Amendment.
TE 37886B-1 | Civil & Environmental Consultants, Inc., Franklin, TN | Nashville crayfish (Orconectes shoupi) | Tennessee | Presence/absence surveys | Capture, handle, identify, and release | Renewal.
TE 096554-4 | James Robinson, Lexington, KY | Blackside dace (Phoxinus cumberlandensis), Cumberland darter (Etheostoma susanae), and Kentucky arrow darter (Etheostoma spilotum) | Kentucky and Tennessee | Presence/absence surveys | Capture, handle, identify, and release | Renewal and Amendment.
TE 100012-3 | Michael Reynolds, Share the Beach, Gulf Shores, AL | Green sea turtle (Chelonia mydas), Kemp's ridley sea turtle (Lepidochelys kempi), and Loggerhead sea turtle (Caretta caretta) | Baldwin and Mobile Counties, Alabama | Monitor and protect nests | Locate, monitor, excavate, and relocate nests; temporarily retain nestlings; and, release nestlings | Renewal.
TE 102418-3 | Florida Army National Guard, Starke, FL | Red-cockaded woodpecker (Picoides borealis), Eastern indigo snake (Drymarchon corais couperi) | Camp Blanding Joint Training Center, Starke, FL | Presence/absence surveys and population management | Red-cockaded woodpecker: Monitor nest cavities, capture, band, release, and install artificial nest cavities. Eastern indigo snake: Scope burrows, capture, handle, and release | Renewal and Amendment.
TE 002507-6 | Florida Forest Service, Brooksville, FL | Red-cockaded woodpecker (Picoides borealis) | Florida | Population management and monitoring | Capture, band, translocate, monitor nest cavities, construct and monitor artificial nest cavities and restrictors | Renewal.
TE 81202C-0 | Michael Maltba, Whitesburg, KY | Gray bat (Myotis grisescens), Indiana bat (M. sodalis), and Northern long-eared bat (M. septentrionalis) | Alabama, Arkansas, Connecticut, Delaware, Florida, Georgia, Illinois, Indiana, Iowa, Kansas, Kentucky, Maryland, Massachusetts, Michigan, Minnesota, Mississippi, Missouri, Nebraska, New Hampshire, New Jersey, New York, North Carolina, North Dakota, Ohio, Oklahoma, Pennsylvania, Rhode Island, South Carolina, South Dakota, Tennessee, Texas, Vermont, Virginia, West Virginia, and Wisconsin | Presence/absence surveys and studies to document habitat use | Enter hibernacula and maternity roost caves, salvage dead bats, capture with mist nets and harp traps, handle, band, radio-tag, collect hair samples, wing-punch, and light-tag | New.
TE 142294-5 | William Holimon, Little Rock, AR | Red-cockaded woodpecker (Picoides borealis) | Alabama, Arkansas, Florida, Georgia, Louisiana, Mississippi, North Carolina, Oklahoma, South Carolina, and Texas | Population management and monitoring | Capture, band, monitor nest cavities, construct and monitor artificial nest cavities and restrictors, and translocate | Renewal.
TE 027344-3 | Chattahoochee-Oconee National Forest, Monticello, GA | Red-cockaded woodpecker (Picoides borealis) | Chattahoochee-Oconee National Forest, Georgia | Population management and monitoring | Monitor nest cavities, and construct and monitor artificial nest cavities and restrictors | Renewal.
TE 84861C-0 | Power South Energy Cooperative, Andalusia, AL | Choctaw bean (Villosa choctawensis), fuzzy pigtoe (Pleurobema strodeanum), narrow pigtoe (Fusconaia escambia), southern kidneyshell (Ptychobranchus jonesi), and southern sandshell (Hamiota australis) | Alabama | Presence/absence surveys | Remove from the substrate, handle, identify, return to substrate, and salvage relic shells | New.
TE 61981B-3 | The Peregrine Fund, Boise, ID | Puerto Rican sharp-shinned hawk (Accipiter striatus venator) | Puerto Rico | Captive propagation and reintroduction | Collect eggs and nestlings for captive propagation | Amendment.

Authority: We provide this notice under the authority of section 10(c) of the ESA.

Aaron Valenta,
Acting Assistant Regional Director, Ecological Services, Southeast Region.

[FR Doc. 2018-12134 Filed 6-5-18; 8:45 am]

BILLING CODE 4333-15-P